DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on June 1, 2007, vol. 72, no. 105, page 30659. The information is being used to properly identify airmen to allow the agency to verify their foreign license being used to qualify for a U.S. certificate.

DATES: Please submit comments by September 14, 2007.

FOR FURTHER INFORMATION CONTACT: Carla Mauney at Carla.Mauney@faa.gov.

SUPPLEMENTARY INFORMATION:

Federal Aviation Administration (FAA)

Title: Verification of Authenticity of Foreign License, Rating and Medical Certification.

Type of Request: New collection.

OMB Control Number: 2120-XXXX.

Forms(s): 8060-71.

Affected Public: An estimated 5,400 respondents.

Frequency: This information is collected on occasion.

Estimated Average Burden Per Response: Approximately 10 minutes per response.

Estimated Annual Burden Hours: An estimated 900 hours annually.

Abstract: The information is being used to properly identify airmen to allow the agency to verify their foreign license being used to qualify for a U.S. certificate. The respondents are holders of foreign licenses wishing to obtain a U.S. certificate.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on August 8, 2007.
Carla Mauney,
FAA Information Collection Clearance Officer, IT Enterprises Business Services Division, AES-200.

[FR Doc. 07-3965 Filed 8-14-07; 8:45 am]

BILLING CODE 4910-13-M